DEPARTMENT OF JUSTICE

Notice of Lodging of Consent Decree Pursuant to the Clean Air Act

In accordance with Departmental policy, 28 CFR 50.7, notice is hereby given that on December 28, 2000, a proposed Consent Decree in United States v. Puerto Rico Medical Services Administration, Civil Action No. 00-2620, was lodged with the United States District Court for the District of Puerto Rico. The proposed Consent Decree will resolve the United States' claims under the Clean Air Act, 42 U.S.C. 7401 et seq. on behalf of the U.S. Environmental Protection Agency against defendant Puerto Rico Medical Services Administration (“PRMSA”).

Pursuant to the Consent Decree, PRMSA will pay a civil penalty of $65,000. In addition, PRMSA agrees to comply with the New Source Performance Standards (“NSPS”) with respect to two boiler affected facilities, to assure that relevant Puerto Rico Environmental Quality Board (“EQB”) Air permits state that the boilers are subject to Subpart Dc of the NSPS, to combust only low sulfur distillate fuel in both of the boilers, and to conduct a performance test for opacity with respect to one of its boilers. Finally, PRMSA has agreed to finance the performance of a Supplemental Environmental Project at a cost of $100,000.

The Department of Justice will receive for a period of thirty (30) days from the date of this publication comments relating to the proposed Consent Decree. Any comments should be addressed to the Assistant Attorney General of the Environment and Natural Resources Division, Department of Justice, P.O. Box 7611, Ben Franklin Station, Washington, DC 20044, and should refer to United States v. Puerto Rico Medical Services Administration, Civil Action No. 00-2620, D.J. Ref. 90-5-2-1-06109.

The proposed Consent Decree may be examined at the Office of the United States Attorney, District of Puerto Rico, Federal Office Building, Carlos E. Chardon Avenue, Hato Rey, Puerto Rico 00918, and at Region II, United States Environmental Protection Agency, 290 Broadway, New York, New York 10007. A copy of the proposed Consent Decree may be obtained by mail from the Department of Justice Consent Decree Library, P.O. Box 7611, Ben Franklin Station, Washington, DC 20044. In requesting a copy, please enclose a check (there is a 25 cent per page reproduction cost) in the amount of $9.00 payable to the Consent Decree Library.

Bruce S. Gelber,
Chief, Environmental Enforcement Section, Environment and Natural Resources Division.

[FR Doc. 01-927 Filed 1-10-01; 8:45 am]

BILLING CODE 4410-15-M